DEPARTMENT OF THE INTERIOR

Bureau of Indian Affairs

[178A2100DD/AAKC001030/A0A501010.999900 253G]

Renewal of Agency Information Collection for Application for Job Placement and Training Services

AGENCY: Bureau of Indian Affairs, Interior.

ACTION: Notice of request for comments.

SUMMARY: In compliance with the Paperwork Reduction Act of 1995, the Assistant Secretary—Indian Affairs is seeking comments on the renewal of Office of Management and Budget (OMB) approval for the collection of information for the Application for Job Placement and Training Services authorized by OMB Control Number 1076-0062. This information collection expires July 31, 2017.

DATES: Submit comments on or before July 25, 2017.

ADDRESSES: You may submit comments on the information collection to Mr. Terrence Parks, Division Chief, Division of Workforce Development, Office of Indian Services, Bureau of Indian Affairs, 1849 C Street NW., MIB, Washington, DC 20240; facsimile: (202) 208-5113; email: Terrence.parks@bia.gov.

FOR FURTHER INFORMATION CONTACT: Mr. Terrence Parks, (202) 513-7625.

SUPPLEMENTARY INFORMATION:

I. Abstract

The Office of Indian Service (OIS) is seeking renewal of the approval for the information collection conducted under 25 CFR part 26 to administer the job placement and training program, through Tribes, which provides vocational/technical training, related counseling, guidance, and job placement services, and limited financial assistance to Indian individuals who are not less than 18 years old and who reside with the Department of the Interior (DOI) approved service areas.

This information collection includes a form: BIA-8205, Application for Job Placement and/or Training Assistance. The previously approved version of this information collection included a reporting element, however, this reporting element is also covered under the Reporting Systems for Public Law 102-477 Demonstration Project Information Collection, OMB# 1076-0135. Therefore, this renewal of OMB# 1076-0062 no longer includes that reporting element in an effort to not duplicate efforts for the public.

II. Request for Comments

The OIS requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0062.

Title: Application for Job Placement & Training Services.

Brief Description of Collection: Submission of this information allows DOI, through Tribes, to administer the job placement and training program, which provides vocational/technical training, related counseling, guidance, job placement services, and limited financial assistance to Indian individuals who are not less than 18 years old and who reside within DOI approved service areas. The information collection includes an application for services, quarterly progress reports, and information from employers regarding opportunities.

Obligation to Respond: Response is required to obtain a benefit.

Type of Review: Revision of currently approved collection.

Respondents: Individuals seeking to participate, or currently participating, in the OIS job placement and training program which is administered by Tribes acting on behalf of the Federal government.

Number of Respondents: Estimated 4,050 per year.

Number of Responses: Estimated 4,050 per year.

Frequency of Response: Once annually to apply for services and on occasion to provide information regarding job opportunities.

Estimated Time per Response: 30 minutes.

Estimated Total Annual Hour Burden: 2,025 hours.

Estimated Total Annual Non-Hour Dollar Cost: $0.

Authority

The authorities for this action are 25 U.S.C. 309 and the Paperwork Reduction Act of 1995, 44 U.S.C. 3501 et seq.

Elizabeth K. Appel,
Director, Office of Regulatory Affairs and Collaborative Action—Indian Affairs.

[FR Doc. 2017-10828 Filed 5-25-17; 8:45 am]

BILLING CODE 4337-15-P